DEPARTMENT OF AGRICULTURE

National Agricultural Statistics Service

Notice of the Advisory Committee on Agriculture Statistics Meeting

AGENCY: National Agricultural Statistics Service, USDA.

ACTION: Notice of meeting.

SUMMARY: In accordance with the Federal Advisory Committee Act, 5 U.S.C. App. 2, the National Agricultural Statistics Service (NASS) announces a meeting of the Advisory Committee on Agriculture Statistics.

DATES: The Advisory committee meeting will take place on February 24, 2003, from 8 a.m. to 5 p.m.

ADDRESSES: The meeting will take place at The Brown—A Camberley Hotel, 335 Broadway, Louisville, Kentucky. The public may file written comments before or within a reasonable time after the meeting to: Carol House, Executive Director, Advisory Committee on Agriculture Statistics, U.S. Department of Agriculture, National Agricultural Statistics Service, 1400 Independence Ave., SW., South Building, Room 4117, Washington, DC 20250-2000.

FOR FURTHER INFORMATION CONTACT: Carol House, Telephone: 202-720-4333, Fax: 202-720-9013, or e-mail: chouse@nass.usda.gov.

SUPPLEMENTARY INFORMATION: The Advisory Committee on Agriculture Statistics consists of 25 members appointed from 7 categories covering a broad range of agricultural disciplines and interests. During this meeting, the Advisory Committee will discuss: (1) Administrative Data, (2) Advisory Subcommittee for Hogs, (3) Publicity and Product Release Plan for the 2002 Census of Agriculture, and (4) Overview of the 2002 Census of Agriculture. The committee will observe and review NASS's data processing activities on Tuesday, February 25.

This advisory committee meeting will be open to the public. There will be an opportunity for public questions and comment during the meeting at 3:45 p.m. The public may file written comments to the USDA Advisory Committee contact person before or within a reasonable time after the meeting. All statements will become a part of the official records of the USDA Advisory Committee on Agriculture Statistics and will be kept on file for public review in the office of the Executive Director, Advisory Committee on Agriculture Statistics, U.S. Department of Agriculture, Washington, DC 20250.

Dated February 10, 2003, at Washington, DC.
R. Ronald Bosecker,
Administrator, National Agricultural Statistics Service.

[FR Doc. 03-4030 Filed 2-19-03; 8:45 am]

BILLING CODE 3410-20-P